DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of October, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,585; Kennametal, Inc., Greenfield Tap Plant, Greenfield, MA

TA-W-41,667; Mechanical Products Co., LLC, Aerospace Div., Jackson, MI

TA-W-42,032; Millennium Plastics Technologies, LLC, El Paso, TX

TA-W-41,946; Tyco Electronics, Fiber Optic Business Unit, Middletown, PA

TA-W-41,967; Trego Industries, Inc., Red Oak, TX

TA-W-42,101; Carmet Co., PCC Structurals, Inc., Duncan, SC

In the following cases, the investigation revealed that the criteria for eligibility have not been met for the reasons specified.

Increased imports did not contribute importantly to worker separations at the firm.

TA-W-41,842; Bee Paper Co., Wayne, NJ

TA-W-41,657; Chevron Philips Chemical, Orange, TX

TA-W-41,955; Bayer Pharmaceuticals, a Div. of Bayer Healthcare AG, West Haven, CT

TA-W-41,972; American Greetings Corp., Corbin, KY

TA-W-42,089; U.S. Manufacturing Corp., Steering Gear Div., Bad Axe, MI

The workers firm does not produce an article as required for certification under Section 222 of the Trade Act of 1974.

TA-W-42,202; Empire Blue Cross Blue Shield, Syracuse, NY

TA-W-42,116; XESystems, Inc., a/k/a Xerox Engineering Systems, Stamford, CT

TA-W-41,962; Competitive Engineering, Inc., Tucson, AZ

TA-W-42,148; Supervalu, Belle Vernon, PA

TA-W-42,113; The Wackenhut Corp., San Manuel, AZ

Affirmative Determinations for Worker Adjustment Assistance

The following certifications have been issued; the date following the company name and location of each determination references the impact date for all workers of such determination.

TA-W-40,940; Trinity Industries, Trinity Railcar Group, Clinton, IL: January 31, 2001.

TA-W-41,658; TNS Mills, Inc., Gaffney Weaving Div., Gaffney, SC: May 10, 2001.

TA-W-41,846; Northwest Swiss-Matic, Inc., Minneapolis, MN: June 30, 2001.

TA-W-41,873; The Boeing Co., Melbourne, AR: March 23, 2002.

TA-W-41,939; LaCrosse Rainfair Safety Products, Racine, WI: July 26, 2001.

TA-W-42,075; LaCrosse Footwear, Hillsboro Div., Hillsboro, WI: August 6, 2001.

TA-W-42,118; Lenox China, Oxford, NC: September 4, 2001.

TA-W-42,138; Classic Clay Concepts, Lake Oswego, OR: August 20, 2001.

TA-W-42,151; Electric Stems, Inc., Elysburg, PA: September 10, 2001.

TA-W-42,156; Wisconsin Automated Machinery Corp., Oshkosh, WI: September 5, 2001.

TA-W-41,976; Black and Decker, North American Power Tools, Easton, MD: August 1, 2001.

TA-W-42,186; AMF Reece, Mechanicsville, VA: September 10, 2001.

TA-W-42,137; General Binding Corp. (GBC), Buffalo Grove, IL: August 26, 2001.

TA-W-41,934; Mallinckrodt Respiratory Div. of Tyco Healthcare, Nellcor Puritan Bennett Subdivision, Carlsbad, CA: October 6, 2002.

TA-W-41,884; Dura Automotive Systems, Inc., Body and Glass Group, Pikeville, TN: July 8, 2001.

TA-W-41,829; Aurafin LLC, Providence Milling and Manufacturing, (Formerly Known as Little and Company, Inc.), Providence, RI: June 26, 2001.

TA-W-41,680; The Good Year Tire and Rubber Co., Engineered Products, Air Springs Plant, Green, OH: August 4, 2002.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of October, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06255; Chevron Phillips Chemical, Orange, TX

NAFTA-TAA-06283; Alfa Laval (Tri-Clover), Kenosha, WI

NAFTA-TAA-06379; American Technical Ceramics Corp., Jacksonville, FL

NAFTA-TAA-06285; Northwest Swiss-Matic, Inc., Minneapolis, MN

NAFTA-TAA-06370; Bee Paper Co., Wayne, NJ

NAFTA-TAA-06453; U.S. Manufacturing Corp., Steering Gear Div., Bad Axe, MI

NAFTA-TAA-07584; Classic Clay Concepts, Lake Oswego, OR

The investigation revealed that the criteria for eligibility have not been met for the reasons specified.

The investigation revealed that workers of the subject firm did not produce an article within the meaning of Section 250(a) of the Trade Act, as amended.

NAFTA-TAA-07604; Nortel Networks, Department 2446, Remote Validation Center (RVC), Research Triangle Park, NC

NAFTA-TAA-06459; Competitive Engineering, Inc., Tucson, AZ

Affirmative Determinations NAFTA-TAA

NAFTA-TAA-05872; Trinity Industries, Trinity Railcar Group, Clinton, IL: February 22, 2001.

NAFTA-TAA-06265; Ark-Les Corp., Raleigh, NC: June 12, 2001.

NAFTA-TAA-06478; Black and Decker, North American Power Tools, Easton, MD: August 9, 2001.

NAFTA-TAA-07557; MEI, a Div. of Mars, Inc., West Chester, PA: August 26, 2001.

NAFTA-TAA-06371; Dura Automotive Systems, Inc., Glass and Body Group, Pikeville, TN: July 8, 2001.

NAFTA-TAA-06410; The Good Year Tire and Rubber Co., Engineered Products, Air Springs Plant, Green, OH: August 4, 2002.

NAFTA-TAA-06445; Creo Americas, Inc., a Subsidiary of Creo, Inc., Bedford, MA: August 2, 2001.

NAFTA-TAA-07586; Hershey Chocolate and Confectionery Corp., Jolly Rancher Div., Wheatridge, CO: September 18, 2001.

I hereby certify that the aforementioned determinations were issued during the months of October, 2002. Copies of these determinations are available for inspection in Room C-5311, U.S. Department of Labor, 200 Constitution Avenue, NW., Washington, DC 20210 during normal business hours or will be mailed to persons who write to the above address.

Dated: October 21, 2002,
Edward A. Tomchick,
Director, Division of Trade Adjustment Assistance

[FR Doc. 02-28031 Filed 11-4-02; 8:45 am]

BILLING CODE 4510-30-P